DEPARTMENT OF COMMERCE

International Trade Administration

[A-475-828]

Stainless Steel Butt-Weld Pipe Fittings From Italy: Rescission of Antidumping Duty Administrative Review; 2024-2025

AGENCY: Enforcement and Compliance, International Trade Administration, Department of Commerce.

SUMMARY: The U.S. Department of Commerce (Commerce) is rescinding the administrative review of the antidumping duty (AD) order on stainless steel butt-weld pipe fittings from Italy for the period of review (POR) February 1, 2024, through January 31, 2025.

DATES: Applicable May 21, 2025.

FOR FURTHER INFORMATION CONTACT: Natasia Harrison, AD/CVD Operations, Office VI, Enforcement and Compliance, International Trade Administration, U.S. Department of Commerce, 1401 Constitution Avenue NW, Washington, DC, 20230; telephone: (202) 482-1240.

SUPPLEMENTARY INFORMATION:

Background

On February 3, 2025, Commerce published in the Federal Register a notice of opportunity to request an administrative review of the AD order on stainless steel butt-weld pipe fittings from Italy.¹ Commerce received a timely request for review of the Order from Core Pipe Products, Inc. (the petitioner).² We received no other requests for review.

¹ See Antidumping or Countervailing Duty Order, Finding, or Suspended Investigation; Opportunity to Request Administrative Review and Join Annual Inquiry Service List, 90 FR 8785 (February 3, 2025); see also Antidumping Duty Orders: Stainless Steel Butt-Weld Pipe Fittings from Italy, Malaysia, and the Philippines, 66 FR 11257 (February 23, 2001) (Order).

² See Petitioner's Letter, “Petitioner's Request for 2024/2025 Administrative Review,” dated February 27, 2025.

On March 28, 2025, Commerce initiated an administrative review of the Order covering the period from February 1, 2024, through January 31, 2025, in accordance with section 751(a) of the Tariff Act of 1930, as amended (the Act), and 19 CFR 351.221(c)(1)(i).³ On March 27, 2025, the petitioner withdrew its request for review with respect to Tectubi Raccordi SpA (including its affiliates, Raccordi Forgiati S.r.l. and Allied International S.r.l.); however, the initiation notice was already set to publish on March 28, 2025.⁴ This review, therefore, covers subject merchandise exported and/or produced by the following company: Filmag Italia, SpA.⁵

³ See Initiation of Antidumping and Countervailing Duty Administrative Reviews, 90 FR 14081 (March 28, 2025) (Initiation Notice).

⁴ See Petitioner's Letter, “Petitioner's Partial Withdrawal of Request for 2024/2025 Administrative Review,” dated March 27, 2025.

⁵ See Initiation Notice, 90 FR at 14081.

On April 3, 2025, we placed on the record U.S. Customs and Border Protection (CBP) data for entries of stainless steel butt-weld pipe fittings from Italy during the POR, showing no reviewable POR entries.⁶ We invited interested parties to comment, and received no comments. Also on April 3, 2025, Commerce notified all interested parties of its intent to rescind the administrative review because there were no suspended entries of subject merchandise made by the one company subject to this administrative review, Filmag Italia, SpA, and invited interested partes to comment.⁷ Commerce did not receive comments from any interested parties on its notice of intent to rescind the administrative review with respect to the sole remaining company subject to this administrative review, Filmag Italia, SpA.

⁶ See Memorandum, “Release of U.S. Customs and Border Protection Import Data,” dated April 3, 2025.

⁷ Id.

Rescission of Review

Pursuant to 19 CFR 351.213(d)(1), Commerce will rescind an administrative review, in whole or in part, if the parties that requested a review withdraw the request within 90 days of the date of publication of the notice of initiation. Commerce received a request from the petitioner for an administrative review of: (1) Filmag Italia, SpA (Filmag) and (2) Tectubi Raccordi SpA (including its affiliates, Raccordi Forgiati S.r.l. and Allied International S.r.l.).⁸ The petitioner withdrew its request for review with respect to Tectubi Raccordi SpA (including its affiliates, Raccordi Forgiati S.r.l. and Allied International S.r.l.).⁹ Because the request for review was timely withdrawn for Tectubi Raccordi SpA (including its affiliates, Raccordi Forgiati S.r.l. and Allied International S.r.l.), and because no other party requested a review of Tectubi Raccordi SpA (including its affiliates, Raccordi Forgiati S.r.l. and Allied International S.r.l.) in accordance with 19 CFR 351.213(d)(1), Commerce is rescinding this review for Tectubi Raccordi SpA (including its affiliates, Raccordi Forgiati S.r.l. and Allied International S.r.l.).

⁸ Id., 90 FR at 14081.

⁹ See Petitioner's Letter, “Petitioner's Partial Withdrawal of Request for 2024/2025 Administrative Review,” dated March 27, 2025.

Further, pursuant to 19 CFR 351.213(d)(3), it is Commerce's practice to rescind an administrative review of an AD order when there are no entries of subject merchandise during the POR for which liquidation is suspended.¹⁰ Normally, upon completion of an administrative review, the suspended entries are liquidated at the AD assessment rate calculated for the review period.¹¹ Therefore, for an administrative review to be conducted, there must be a suspended entry that Commerce can instruct CBP to liquidate at the AD assessment rate calculated for the review period.¹² As noted above, there were no suspended entries of subject merchandise for Filmag Italia, SpA subject to this review during the POR. Accordingly, in the absence of suspended entries of subject merchandise during the POR, we are hereby rescinding this administrative review, in its entirety, in accordance with 19 CFR 351.213(d)(3).

¹⁰ See, e.g., Dioctyl Terephthalate from the Republic of Korea: Rescission of Antidumping Administrative Review; 2021-2022, 88 FR 24758 (April 24, 2023); see also Certain Carbon and Alloy Steel Cut-to-Length Plate from the Federal Republic of Germany: Recission of Antidumping Administrative Review; 2020-2021, 88 FR 4154 (January 24, 2023).

¹¹ See 19 CFR 351.212(b)(1).

¹² See 19 CFR 351.213(d)(3).

Cash Deposit Requirements

As Commerce has proceeded to a final rescission of this administrative review, no cash deposit rates will change. Accordingly, the current cash deposit requirements shall remain in effect until further notice.

Assessment

Commerce will instruct CBP to assess antidumping duties on all appropriate entries of stainless steel butt-weld pipe fittings from Italy. ADs shall be assessed at rates equal to the cash deposit rate of estimated ADs required at the time of entry, or withdrawal from warehouse, for consumption, in accordance with 19 CFR 351.212(c)(1)(i). Commerce intends to issue appropriate assessment instructions to CBP no earlier than 35 days after the date of publication of this rescission notice in the Federal Register.

Administrative Protective Order (APO)

This notice serves as a final reminder to parties subject to an APO of their responsibility concerning the return or destruction of proprietary information disclosed under APO in accordance with 19 CFR 351.305(a)(3), which continues to govern business proprietary information in this segment of the proceeding. Timely written notification of the return or destruction of the APO materials, or conversion to judicial protective order is hereby requested. Failure to comply with regulations and terms of an APO is a violation, which is subject to sanction.

Notification to Interested Parties

We are issuing and publishing this notice in accordance with sections 751(a)(1) and 777(i)(1) of the Act, and 19 CFR 351.213(d)(4).

Dated: May 14, 2025.
Scot Fullerton,
Acting Deputy Assistant Secretary for Antidumping and Countervailing Duty Operations.

[FR Doc. 2025-09118 Filed 5-20-25; 8:45 am]

BILLING CODE 3510-DS-P